DEPARTMENT OF LABOR

Employment and Training Administration

[TA-W-50,986]

F.L. Smithe Machine Company, Inc., Duncanville, PA; Notice of Termination of Investigation

Pursuant to section 221 of the Trade Act of 1974, as amended, an investigation was initiated on February 26, 2003, in response to a worker petition filed by the International Association of Machinists and Aerospace Workers, Local Lodge 2348, on behalf of workers at F.L. Smithe Machine Company, Inc., Duncanville, Pennsylvania.

The petitioning group of workers is covered by an active certification issued on April 6, 2001 (TA-W-38,752). Consequently, the investigation has been terminated.

Signed at Washington, DC this 24th day of March 2003.
Richard Church,
Certifying Officer, Division of Trade Adjustment Assistance.

[FR Doc. 03-8343 Filed 4-4-03; 8:45 am]

BILLING CODE 4510-30-P